DEPARTMENT OF AGRICULTURE

Food and Nutrition Service

Agency Information Collection Activities: Proposed Collection; Comment Request—Food Stamp Program Store Applications, Form Numbers FNS-252 and FNS-252-2

AGENCY: Food and Nutrition Service, USDA.

ACTION: Notice and request for comments.

SUMMARY: In accordance with the Paperwork Reduction Act of 1995, the Food and Nutrition Service (FNS) is publishing for public comment a summary of a proposed information collection. The proposed collection is a revision, with change of two application forms approved under the Office of Management and Budget (OMB) No. 0584-0008, Form FNS-252, Food Stamp Application for Stores and Form FNS-252-2, Meal Service “ Application. Together, these two forms are used by all retailers, wholesalers, meal service providers, certain types of group homes, shelters, and state-contracted restaurants who wish to apply to FNS for authorization to participate in the Food Stamp Program and are used to determine whether or not the firms or services continue to meet eligibility requirements. Previously, Form FNS-252R, Food Stamp Application for Stores—Reauthorization was approved under this same OMB Number. FNS has eliminated the need for Form FNS-252R and this submission to OMB reflects this change.

DATES: Comments on this notice must be received by May 20, 2002 to be assured of consideration.

ADDRESSES: Send comments to Karen J. Walker, Chief, Retailer Management Branch, Benefit Redemption Division, Food and Nutrition Service, U.S. Department of Agriculture, 3101 Park Center Drive, Room 404, Alexandria, VA 22302.

Pursuant to the Paperwork reduction Act of 1995 (44 U.S.C. 3507), comments are invited on: (a) Whether the proposed collection of information is necessary for the proper performance of the functions of the agency, including whether the information has practical utility; (b) the accuracy of the agency's estimate of the burden of the proposed collection of information, including the validity of the methodology and assumptions used; (c) ways to enhance the quality, utility, and clarity of the information to be collected; and (d) ways to minimize the burden of the collection of information on those who are to respond, including the use of appropriate automated, electronic, mechanical, or other technological collection techniques or other forms of information technology.

All comments will be summarized and included in the request for Office of Management and Budget approval of the information collection. All comments will become matter of public record.

FOR FURTHER INFORMATION CONTACT: Karen J. Walker, (703) 305-2418.

SUPPLEMENTARY INFORMATION: Title: Food Stamp Program—Store Applications.

OMB Number: 0584-0008.

Expiration Date: June 30, 2002.

Type of Request: Revision of a currently approved information collection, with changes.

Abstract: FNS is the Federal Agency responsible for the Food Stamp Program (FSP). Section 9 of the Food Stamp Act of 1977, as amended, (7 U.S.C. 2011 et. seq.) requires that FNS provide for the submission of applications for approval by retail food establishments and meal service programs that wish to participate in the FSP, review the application in order to determine whether or not applicants meet eligibility requirements, and make determinations whether to grant or deny authorization to accept and redeem food stamp benefits. FNS is also responsible for requiring updates to application information and reviewing that information to determine whether or not the firms or services continue to meet eligibility requirements.

The following three forms are currently approved under OMB No. 0584-0008: Form FNS-252, Food Stamp Application for Stores; Form FNS-252-2, Meal Service-Application, and Form FNS-252-R, Food Stamp Application for Stores—Reauthorization. For this submission to OMB, FNS is seeking approval of two forms, FNS-252 and FNS-252-2. FNS has eliminated the use of the third form, FNS-252-R, so it is not part of this information collection package. Without the use of Forms FNS-252 and FNS-252-2, no vehicle would exist for FNS to determine the qualification of those applicants whose participation will effectuate the purposes of the FSP.

The burden associated with these forms are determined from information available in our Store Tracking and Redemption System (STARS) database based on information available as of July 2001. For burden estimates associated with the number of applications received and processed for initial authorization, we used as our base the number of stores (all types) newly authorized/approved as reflected in data in year-end data maintained in STARS. We examined year-end data for Fiscal Year (FY) 1996-2000. Year-end data for FY 2001 is not yet available. In our analysis, historical data reflected an average decline of approximately 1,500 authorized retailers each year. However, in comparing the number of new firms entering the FSP in July 2000 vs. July 2001, we noticed a slight increase in the number of authorizations. As of July 2001, approximately 15,069 firms were newly authorized/approved. We do not think it is realistic to assume that this number will remain constant for the remainder of the fiscal year, therefore, we are estimating a 10% increase from the STARS data available as of July 2001. We estimate that the number of stores newly authorized in FY 2001 will be around 16,576 (15,069 + 10% = 16,575.9), rounded to 16,500. We have further inflated the base number of 16,500 applications by 7% (1,155) to account for applications received and processed, but denied or are incomplete at the time of submission. Thus, the total number of applications expected to be received and processed is estimated to be 17,655 annually. It is estimated that 98% (17,301) of the 17,655 applications expected to be received would be on Form FNS-252 and 2% (353) would be on Form FNS-252-2. As currently approved by OMB, the hourly burden rate per response for Form FNS-252 is 20 to 68 minutes, with the average being 27 minutes. Hourly burden time per response varies by the type of application used, and includes the time to review instructions, search existing data resources, gather and copy the data needed, complete and review the application and submit the form and documentation to FNS. The hourly burden time for users of Form FNS-252-2 is estimated to be 10 to 20 minutes, with the average time being 12 minutes.

For burden estimates associated with applications for reauthorization, we used the total number of stores (all types) authorized (155,950) as of July 2001. Generally, authorized stores are subject to reauthorization at least once every 5 years. Using the number of authorized stores (155,950) as of July 2001 as our base, it is estimated that 20% (31,190) of all authorized stores are subject to reauthorization performed annually. As mentioned previously, since our last information collection package, FNS has eliminated the use of Form FNS 252-R, Food Stamp Application for Stores—Reauthorization, and the hourly burden time associated with this form. As a result of this procedural change, we estimate that 3% (936) of the 31,190 firms subject to reauthorization will be completed using Form FNS-252 and 2% (624) will be on Form FNS-252-2. The remaining 95% (29,630) of the 31,190 firms subject to reauthorization will not have to complete any forms in order to be reauthorized. Reauthorization for those firms will involve a documented store visit either by Agency personnel or by an agent of the Agency.

Using the two remaining forms (FNS-252 and FNS 252-2), we estimate the number of program respondents to be 19,215. The computation is provided below:

FNS-252

New Authorizations 17,302 (17,655 x 98%); Reauthorizations 936 (155,950 x 20% x 3%) = 18,238

FNS-252-2

New Authorizations 353 (17,655 x 2%) Reauthorizations 624 (155,950 x 20% x 2%) = 977; Total Responses = 19,215 (18238 + 977).

We estimate the annual burden hours to be 8,553 hours. The computation is provided below:

FNS-252 8,358 (18,238 x .4583 hours)

FNS-252-2 195; Total Annual Hours 8,553.

Affected Public: Retail food stores, wholesale food concerns, and meal service programs.

Estimated Number of Respondents: 19,215.

Estimated Annual Number of Responses per Respondent: 1.

Estimated Total Annual Responses: 19,215.

Estimate of Burden: 8,553.

Estimated Total Annual Burden: 8,553.

Dated: February 5, 2002.
George A. Braley,
Acting Administrator, Food and Nutrition Service.

[FR Doc. 02-6589 Filed 3-18-02; 8:45 am]

BILLING CODE 3410-30-U